DEPARTMENT OF TRANSPORTATION

Federal Aviation Administration

14 CFR Part 97

[Docket No. 30392; Amdt. No. 3079]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective October 22, 2003. The compliance date for each SIAP is specified in the amendatory provisions.

The incorporation by reference of certain publications listed in the regulations is approved by the Director of the Federal Register as of October 22, 2003.

ADDRESSES: Availability of matters incorporated by reference in the amendment is as follows:

For Examination—

1. FAA Rules Docket, FAA Headquarters Building, 800 Independence Avenue, SW., Washington, DC 20591;

2. The FAA Regional Office of the region in which the affected airport is located;

3. The Flight Inspection Area Office which originated the SIAP; or,

4. The Office of the Federal Register, 800 North Capitol Street, NW., Suite 700, Washington, DC.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on October 10, 2003.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective October 30, 2003

Gulf Shores, AL, Jack Edwards, ILS OR LOC Rwy 27, Orig

Gulf Shores, AL, Jack Edwards, RNAV (GPS) Rwy 27, Orig

Gulf Shores, AL, Jack Edwards, RNAV (GPS) Rwy 9, Amdt 1

Gulf Shores, AL, Jack Edwards, VOR-A, Amdt 3

Gulf Shores, AL, Jack Edwards, GPS Rwy 27, Amdt 1A, Cancelled

Orlando, FL, Executive, VOR/DME Rwy 7, Amdt 1

Orlando, FL, Executive, VOR/DME Rwy 25, Amdt 2

Donalsonville, GA, Donalsonville Muni, VOR/DME-A, Amdt 3

Donalsonville, GA, Donalsonville Muni, GPS Rwy 36, Orig, Cancelled

Donalsonville, GA, Donalsonville Muni, GPS Rwy 18, Orig, Cancelled

Donalsonville, GA, Donalsonville Muni, RNAV (GPS) Rwy 36, Orig

Donalsonville, GA, Donalsonville Muni, RNAV (GPS) Rwy 18, Orig

De Kalb, IL, De Kalb Taylor Muni, NDB Rwy 27, Orig

De Kalb, IL, De Kalb Taylor Muni, VOR/DME Rwy 27, Orig

De Kalb, IL, De Kalb Taylor Muni, RNAV (GPS) Rwy 9, Orig

De Kalb, IL, De Kalb Taylor Muni, RNAV (GPS) Rwy 27, Orig

De Kalb, IL, De Kalb Taylor Muni, NDB Rwy 27, Amdt 1, Cancelled

De Kalb, IL, De Kalb Taylor Muni, GPS Rwy 9, Amdt 1, Cancelled

De Kalb, IL, De Kalb Taylor Muni, VOR/DME OR GPS Rwy 27, Amdt 5, Cancelled

Greencastle, IN, Putnam County, NDB Rwy 18, Amdt 1

Greencastle, IN, Putnam County, VOR/DME-A, Amdt 6

Greencastle, IN, Putnam County, RNAV (GPS) Rwy 18, Orig

Greencastle, IN, Putnam County, RNAV (GPS) Rwy 36, Orig

Baton Rouge, LA, Baton Rouge Metropolitan, Ryan Field, RNAV (GPS) Rwy 4L, Orig

Baton Rouge, LA, Baton Rouge Metropolitan, Ryan Field, NDB Rwy 13, Amdt 25

Baton Rouge, LA, Baton Rouge Metropolitan, Ryan Field, VOR Rwy 4L, Amdt 17

Corinth, MS, Roscoe Turner, ILS OR LOC/NDB Rwy 17, Amdt 1

Corinth, MS, Roscoe Turner, RNAV (GPS) Rwy 17, Orig

Corinth, MS, Roscoe Turner, GPS Rwy 17, Orig, Cancelled

Philadelphia, MS, Philadelphia Muni, NDB Rwy 18, Amdt 1

Philadelphia, MS, Philadelphia Muni, NDB Rwy 36, Amdt 1

Philadelphia, MS, Philadelphia Muni, RNAV (GPS) Rwy 36, Orig

Philadelphia, MS, Philadelphia Muni, RNAV (GPS) Rwy 18, Orig

Raymond, MS, John Bell Williams, NDB Rwy 12, Amdt 1

Raymond, MS, John Bell Williams, RNAV (GPS) Rwy 30, Orig

Raymond, MS, John Bell Williams, RNAV (GPS) Rwy 12, Orig

Burlington, NC, Burlington-Alamance Regional, LOC Rwy 6, Amdt 2, Cancelled

Burlington, NC, Burlington-Alamance Regional, ILS OR LOC/NDB Rwy 6, Orig

Salem, OR, McNary Fld, RNAV (GPS) Rwy 31, Orig

Salem, OR, McNary Fld, NDB Rwy 31, Amdt 18E

Chambersburg, PA, Chambersburg Muni, VOR/DME-B, Amdt 2

Dallas-Fort Worth, TX, Dallas/Fort Worth International, ILS OR LOC Rwy 18R, Amdt 6, ILS Rwy 18R (CAT II, III), Amdt 6

Dallas-Fort Worth, TX, Dallas/Fort Worth International, LOC/DME Rwy 18R, Orig, Cancelled

Dallas-Fort Worth, TX, Dallas/Fort Worth International, Converging ILS Rwy 18R, Amdt 4

Dallas-Fort Worth, TX, Dallas/Fort Worth Intl, Converging ILS Rwy 36L, Orig

Dallas-Fort Worth, TX, Dallas/Fort Worth International, Converging ILS Rwy 36L, Amdt 1A, Cancelled

Dallas-Fort Worth, TX, Dallas/Fort Worth International, ILS OR LOC Rwy 36L, Orig

Dallas-Fort Worth, TX, Dallas/Fort Worth International, ILS Rwy 36L, Amdt 1, Cancelled

* * * Effective November 27, 2003

Beaufort, SC, Beaufort County, Radar-1, Amdt 3

* * * Effective December 25, 2003

Anchorage, AK, Ted Stevens Anchorage Intl, RNAV (GPS) Rwy 14, Orig-B

Gustavus, AK, Gustavus, NDB-A, Amdt 1

Gustavus, AK, Gustavus, VOR/DME Rwy 29, Amdt 1

Gustavus, AK, Gustavus, RNAV (GPS) Y Rwy 29, Orig

Nelson Lagoon, AK, Nelson Lagoon, RNAV (GPS) Rwy 8, Orig

Nelson Lagoon, AK, Nelson Lagoon, RNAV (GPS) Rwy 26, Orig

Pilot Point, AK, Pilot Point, RNAV (GPS) Rwy 7, Orig

Pilot Point, AK, Pilot Point, RNAV (GPS) Rwy 25, Orig

Hemet, CA, Hemet-Ryan, NDB-A, Amdt 1

Hemet, CA, Hemet-Ryan, RNAV (GPS) Rwy 5, Orig

Hemet, CA, Hemet-Ryan, GPS Rwy 5, Orig, Cancelled

Los Angeles, CA, Los Angeles Intl, NDB Rwy 24R, Amdt 13, Cancelled

Los Angeles, CA, Los Angeles Intl, VOR OR TACAN OR GPS Rwy 7L/R, Amdt 18A, Cancelled

Los Angeles, CA, Los Angeles Intl, VOR OR TACAN OR GPS Rwy 25L/R, Amdt 15A, Cancelled

Grand Junction, CO, Walker Field, RNAV (GPS) Rwy 29, Amdt 1

New Bedford, MA, New Bedford Regional, LOC BC Rwy 23, Amdt 12

New Bedford, MA, New Bedford Regional, RNAV (GPS) Rwy 5, Orig

New Bedford, MA, New Bedford Regional, RNAV (GPS) Rwy 23, Orig

New Bedford, MA, New Bedford Regional, GPS Rwy 23, Amdt 1, Cancelled

St. Joseph, MO, Rosecrans Memorial, LOC BC Rwy 17, Amdt 9

St. Joseph, MO, Rosecrans Memorial, RNAV (GPS) Rwy 17, Orig

St. Joseph, MO, Rosecrans Memorial, RNAV (GPS) Rwy 35, Orig

St. Joseph, MO, Rosecrans Memorial, VOR/DME RNAV OR GPS Rwy 17, Amdt 4D, Cancelled

St. Joseph, MO, Rosecrans Memorial, VOR OR TACAN Rwy 17, Amdt 14

St. Joseph, MO, Rosecrans Memorial, VOR/DME OR TACAN Rwy 35, Orig

St. Joseph, MO, Rosecrans Memorial, NDB Rwy 35, Amdt 28F

Rocky Mount, NC, Rocky Mount-Wilson Rgnl, VOR/DME Rwy 22, Amdt 2

Rocky Mount, NC, Rocky Mount-Wilson Regional, NDB Rwy 4, Amdt 9

Rocky Mount, NC, Rocky Mount-Wilson Regional, ILS OR LOC Rwy 4, Amdt 16

Rocky Mount, NC, Rocky Mount-Wilson Regional, RNAV (GPS) Rwy 4, Orig

Rocky Mount, NC, Rocky Mount-Wilson Regional, RNAV (GPS) Rwy 22, Orig

Wilmington, OH, Clinton Field, VOR-A, Amdt 1

York, PA, York, RNAV (GPS) Rwy 17, Orig

York, PA, York, GPS Rwy 17, Amdt 1 Cancelled

[FR Doc. 03-26306 Filed 10-21-03; 8:45 am]

BILLING CODE 4910-13-P